ENVIRONMENTAL PROTECTION AGENCY

[FRL-8699-4]

Proposed Past Cost Administrative Settlement Under Section 122(h)(1) of CERCLA for the Sterling Morton High School Superfund Site, Town of Cicero, Cook County, IL

AGENCY: Environmental Protection Agency (EPA).

ACTION: Notice; Request for public comment.

SUMMARY: In accordance with section 122(i) of the Comprehensive Environmental Response, Compensation, and Liability Act, as amended ((CERCLA(), 42 U.S.C. 9622(i), notice is hereby given of a proposed administrative settlement agreement pursuant to section 122(h)(1) of CERCLA for recovery of past response costs incurred by EPA in connection with the Sterling Morton High School Superfund Site, located in the Town of Cicero, Cook County, Illinois (the “Site”). The proposed settlement has been approved by the Deputy Section Chief of the Environmental Enforcement Section of the Environment and Natural Resources Division of the U.S. Department of Justice.

Under the terms of the proposed settlement agreement, within fifteen (15) days of its effective date the following parties will pay $550,000 to the Hazardous Substances Superfund: J. Sterling Morton High School District 201; Amphenol Corporation; Berkshire Investments LLC; Chemtura Corporation; CSX Transportation, Inc.; E.I. Du Pont de Nemours and Company; Getronics NV; Honeywell International Inc.; Total Logistics Control, LLC; and Vesper Holdings LLC. In each of the nine years subsequent to the effective date of the proposed agreement, J. Sterling Morton High School District 201 will pay an additional $50,000. The settlement represents recovery of approximately 91% of the response costs incurred by the Agency in connection with the time-critical removal action conducted by EPA at the Site, plus interest. In exchange for payment, the United States covenants not to sue or take administrative action pursuant to section 107(a) of CERCLA, 42 U.S.C. 9607(a), to recover past response costs. In addition, the settling parties are entitled to protection from contribution actions or claims for past response costs, as provided by sections 113(f)(2) and 122(h)(4) of CERCLA, 42 U.S.C. 9613(f)(2) and 9622(h)(4).

For thirty (30) days after the date of publication of this notice, the Agency will receive written comments relating to the proposed settlement. The Agency will consider all comments received, and may withdraw its consent to the settlement if comments received disclose facts or considerations which indicate that the settlement is inappropriate, improper, or inadequate.

DATES: Comments on the proposed settlement must be submitted on or before September 2, 2008.

ADDRESSES: A copy of the proposed settlement agreement is available for public inspection at EPA's Record Center, 7th floor, 77 W. Jackson Blvd., Chicago, Illinois 60604. A copy may also be obtained from Eileen L. Furey, Chief, Multi-Media II, Section 3, U.S. EPA Region 5, 77 W. Jackson Blvd. (Mail Code C-14J), Chicago, Illinois 60604; telephone (312) 886-7950. Written comments on the proposed settlement should be addressed to Eileen Furey at the address specified above, and should reference the Sterling Morton High School Superfund Site, Town of Cicero, Cook County, Illinois, EPA Docket No. V-W-08-C-907.

FOR FURTHER INFORMATION CONTACT: Eileen Furey at the address and phone number specified above.

Authority: The Comprehensive Environmental Response, Compensation, and Liability Act of 1980, as amended, 42 U.S.C. 9601 et seq.

Dated: July 21, 2008.
Richard C. Karl,
Director, Superfund Division, Region 5.

[FR Doc. E8-17596 Filed 7-30-08; 8:45 am]

BILLING CODE 6560-50-P